DEPARTMENT OF THE INTERIOR

National Park Service

Environmental Impact Statements; Comprehensive Trail Management Plan for Cuyahoga Valley National Park, OH

AGENCY: National Park Service, Interior.

ACTION: Notice of Intent To Prepare an Environmental Impact Statement for Comprehensive Trail Management Plan for Cuyahoga Valley National Park, OH.

SUMMARY: Pursuant to Section 102(2)(C) of the National Environmental Policy Act of 1969 (42 U.S.C. 4332(2)(C)), the National Park Service (NPS) is announcing its intent to prepare an environmental impact statement (EIS) for a comprehensive trail management plan (TMP) for the Cuyahoga Valley National Park (Park). The TMP will evaluate alternatives for long-term development, management, sustainability, and accessibility of Park trails for current and new users as an integral part of a larger regional trail system. Two metropolitan park districts with significant park land holdings and trail networks—Cleveland Metroparks (CMP) and Metro Parks, Serving Summit County (MPSSC)—have agreed to be cooperators in the preparation of the TMP/EIS.

DATES: To be most helpful to the scoping process, comments should be received within 45 days from the date this notice is published in the Federal Register.

ADDRESSES: Information will be available for public review at Park headquarters located at 15610 Vaughn Road, Brecksville, Ohio 44141, phone (216) 524-1497. The NPS will also make background information and information on the time and location of public meetings available to the public, formally solicit input on the TMP/EIS, and conduct public meetings through the NPS Planning, Environment and Public Comment (PEPC) Web site at http://parkplanning.nps.gov/cuva, the Park's Web site at http://www.nps.gov/cuva, and local newspapers.

To facilitate sound analysis of environmental impacts, the NPS is gathering information necessary for the preparation of the TMP/EIS. Suggestions on environmental issues to be analyzed and alternatives to consider are being sought from other Agencies, tribes, organizations, and the public. Comments and participation in this scoping process are invited and encouraged. Additionally, any input received from stakeholders or the general public regarding the comprehensive TMP prior to the publication of this notice will be fully considered during this planning process.

If you wish to comment on the scoping materials or on any other issues associated with the TMP/EIS, you may submit your comments by any one of several methods. You may submit your comments online through the PEPC Web site provided above. Once on the PEPC Web site, click on the link titled “Comprehensive Trail Management Plan.” You may also mail comments to the NPS at the contact address provided above.

Before including your address, telephone number, e-mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, or organizations or businesses available for public inspection in their entirety.

Interested Agencies and organizations are also invited to arrange meetings to provide input directly. Such meetings can be arranged by contacting the Park at the address and telephone below.

FOR FURTHER INFORMATION, CONTACT: For information concerning the scope of the TMP/EIS and to arrange Agency meetings, requests should be directed to: Kevin Skerl, Ecologist, 15610 Vaughn Road, Brecksville, Ohio 44141, e-mail: kevin_skerl@nps.gov; phone: 330-650-5071, Ext. 4.

SUPPLEMENTARY INFORMATION: The Act of December 27, 1974 (16 U.S.C. 460ff et. seq.), established Cuyahoga Valley National Recreation Area (now Cuyahoga Valley National Park; Pub. L. 106-291 § 149) to preserve the scenic, natural, and historic setting of the Cuyahoga Valley while providing for the recreational and educational needs of the visiting public. The Park consists of approximately 33,000 acres located between the cities of Cleveland and Akron in Ohio. The Park is among the most visited national parks, with 3 million visitors per year. The primary recreational resource is the Park's trail system. More than 125 miles of trails are available for use. Hiking, biking, and horseback riding are common activities. The trail system includes the historic Ohio & Erie Canal Towpath Trail that passes through the entire park and extends further into the Ohio & Erie Canal National Heritage Corridor. A portion of Ohio's Buckeye Trail also passes through the Park.

The NPS has, for the most part, implemented a 1985 trail plan. A new, updated TMP is needed to reflect current issues and opportunities, including the need to: Reexamine trails proposed in the 1985 plan that have not yet been built; rehabilitate or replace trails that have been partially obliterated by severe flood events; modify trail alignments; implement new best management practices; address numerous calls for connections to community trail systems; and evaluate new trail segments and new trail uses.

Only 60 percent of the Park is under federal protection; over 4,700 acres are owned and managed by the CMP and over 3,300 acres are owned and managed by the MPSSC. Because the CMP and the MPSSC are public land-holding agencies within the boundary of the Park, close coordination with the Park on a broad range of cultural and natural resource management and visitor services activities has occurred over the past 30 years, including the development of the Park's first trail plan in 1985.

Dated: September 21, 2009.
David N. Given,
Acting Regional Director, Midwest Region.

[FR Doc. E9-23547 Filed 9-29-09; 8:45 am]

BILLING CODE 4310-MA-P